DEPARTMENT OF THE INTERIOR

National Park Service

[NPS-WASO-NAGPRA-23146; PPWOCRADN0-PCU00RP14.R50000]

Notice of Inventory Completion: Fowler Museum at UCLA, Los Angeles, CA

AGENCY: National Park Service, Interior.

ACTION: Notice.

SUMMARY: The Fowler Museum at UCLA has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Fowler Museum at UCLA. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Fowler Museum at UCLA at the address in this notice by June 2, 2017.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at UCLA, Los Angeles, CA. The human remains and associated funerary objects were removed from multiple sites in Orange County, CA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Fowler Museum at UCLA professional staff in consultation with representatives of the La Jolla Band of Luiseno Indians, California (previously listed as the La Jolla Band of Luiseno Mission Indians of the La Jolla Reservation); Pala Band of Mission Indians (previously listed as the Pala Band of Luiseno Mission Indians of the Pala Reservation, California); Pauma Band of Luiseno Mission Indians of the Pauma & Yuima Reservation, California; Pechanga Band of Luiseno Mission Indians of the Pechanga Reservation, California; Rincon Band of Luiseno Mission Indians of the Rincon Reservation, California; San Manuel Band of Mission Indians, California (previously listed as the San Manuel Band of Serrano Mission Indians of the San Manuel Reservation); and Soboba Band of Luiseno Indians, California. In addition, the Fowler Museum at UCLA professional staff consulted with the Juaneno Band of Mission Indians, Acjachemen Nation, and the Traditional Council of Pimu, both non-federally recognized Indian groups.

History and Description of the Remains

In 1978, human remains representing, at minimum, 50 individuals were removed from site CA-ORA-469C in Orange County, CA, by Marie Cottrell and the Archaeological Resource Management Corporation prior to the development of housing and curated at UCLA. The identification of discrete burials was difficult because the area was mechanically graded, destroying nearly the entire site and heavily disturbing the burials and their associated funerary objects. A total of 12 formal burials were identified along with a large number of fragmentary human remains. Based on discrete contexts and bone fits, the human remains represent 8 male and 3 female adults; 16 adults of indeterminate sex;16 infants, and 7 sub-adults. No known individuals were identified. The 319 associated funerary objects are 82 flakes and flaked tools; 4 cobble tools; 1 fire-cracked rock; 18 stone fragments; 3 pottery sherds; 26 shell beads; 2 lots of burial soil; 61 fragments of animal bone; 2 lots of animal bone; 56 fragments of shell; 4 lots of shell; 59 fragments of fossilized bone and shell; and 1 lot of fossilized bone and shell.

At some unknown time, human remains representing, at minimum, one individual was removed from San Joaquin Hills in Orange County, CA. No provenience information was provided for the location. Archeological sites from the San Joaquin Hills date between BC 860-1800 A.D. The human remains consist of one human pelvis fragment representing an individual of indeterminate age and sex. No known individual was identified. The one associated funerary object is a deer long bone fragment. The human remains and associated funerary object assume the same lab number (1690).

Consultation has identified site CA-ORA-469C and the San Joaquin Hills site to be within the traditional territories of the Acjachemen/Juaneno and Tongva/Gabrielino people. Linguistic and ethnohistoric evidence shows that these Takic-speaking peoples moved into the area by at least 4,500 B.P. These groups have a common heritage, but began to diverge by the beginning of the Middle period. Analysis of historical records from missions in the Greater Los Angeles area shows that at the time of mission recruitment, in the 18th and 19th centuries, the occupants of the area were descended from the populations living in the area.

Associated funerary objects from these sites are consistent with those of groups ancestral to the present-day Acjachemen/Juaneno and Tongva/Gabrielino people. The same range of artifact types and materials were used from the pre-contact period until historic times. Native consultants state that population mixing would not alter the continuity of the shared group identities of people associated with specific locales. Based on this evidence, continuity through time can be traced for these sites with present-day Acjachemen/Juaneno and Tongva/Gabrielino.

At the time of the excavation and removal of these human remains and associated funerary objects, the land from which the remains and objects were removed was not the tribal land of any Indian tribe or Native Hawaiian organization. In 2016, the Fowler Museum at UCLA consulted with Indian tribes who are recognized as aboriginal to the area from which these Native American human remains and associated funerary objects were removed. None of these Indian tribes agreed to accept control of the human remains and associated funerary objects. In October 2016, the Fowler Museum at UCLA agreed to transfer control of the human remains and associated funerary objects to the Pechanga Band of Luiseno Mission Indians of the Pechanga Reservation, California.

Determinations Made by the Fowler Museum at UCLA

Officials of the Fowler Museum at UCLA have determined that:

• Pursuant to 25 U.S.C. 3001(9), the human remains described in this notice represent the physical remains of 51 individuals of Native American ancestry.

• Pursuant to 25 U.S.C. 3001(3)(A), the 320 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(2)(i), the disposition of the human remains and associated funerary objects may be to Pechanga Band of Luiseno Mission Indians of the Pechanga Reservation, California.

Additional Requestors and Disposition

Representatives of any Indian tribe or Native Hawaiian organization not identified in this notice that wish to request transfer of control of these human remains and associated funerary objects should submit a written request with information in support of the request to Wendy G. Teeter, Ph.D., Fowler Museum at UCLA, Box 951549, Los Angeles, CA 90095-1549, telephone (310) 825-1864, email wteeter@arts.ucla.edu, by June 2, 2017. After that date, if no additional requestors have come forward, transfer of control of the human remains and associated funerary objects to the Pechanga Band of Luiseno Mission Indians of the Pechanga Reservation, California, may proceed.

The Fowler Museum at UCLA is responsible for notifying Pechanga Band of Luiseno Mission Indians of the Pechanga Reservation, California, that this notice has been published.

Dated: March 23, 2017.
Melanie O'Brien,
Manager, National NAGPRA Program.

[FR Doc. 2017-08869 Filed 5-2-17; 8:45 am]

BILLING CODE 4312-52-P